DEPARTMENT OF EDUCATION

Office of Special Education and Rehabilitative Services; Overview Information; Technical Assistance and Dissemination To Improve Services and Results for Children With Disabilities—Technical Assistance Coordination Center; Notice Inviting Applications for New Awards for Fiscal Year (FY) 2008

Catalog of Federal Domestic Assistance (CFDA) Number: 84.326Z.

DATES:

Applications Available: June 5, 2008.

Deadline for Transmittal of Applications: July 7, 2008.

Deadline for Intergovernmental Review: September 3, 2008.

Full Text of Announcement

I. Funding Opportunity Description

Purpose of Program: The purpose of the Technical Assistance and Dissemination to Improve Services and Results for Children With Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1400 et seq.).

Absolute Priority: For FY 2008, this priority is an absolute priority. Under 34 CFR 75.105(c)(3), we consider only applications that meet this priority.

This priority is:

Technical Assistance and Dissemination to Improve Services and Results for Children With Disabilities—Technical Assistance Coordination Center.

Background: Under Part D of IDEA, the Office of Special Education Programs (OSEP) developed a comprehensive Technical Assistance & Dissemination (TA&D) Network, which is comprised of approximately 40 TA&D OSEP-funded centers that work at the national and regional levels to improve the education of and services to eligible children with disabilities. These centers provide TA covering a variety of areas to State educational agencies (SEAs), local educational agencies (LEAs), Part C lead agencies, families of children with disabilities, and others to improve services and outcomes for children served under Part B and Part C of IDEA. (For more information regarding Parts B and C of IDEA see sections 611 and 631 of IDEA (20 U.S.C. 1400 et seq.))

Ongoing communication, collaboration, and coordination among the centers in the OSEP TA&D Network are essential to (a) increase the impact of the TA&D centers' efforts, (b) maximize efficiency, and (c) ensure that products and services are non-duplicative. Furthermore, communication, collaboration, and coordination between OSEP's TA&D Network and other relevant federally-funded TA&D centers are necessary to improve early intervention and education outcomes for children with disabilities. For example, the Department's Office of Elementary and Secondary Education (OESE) funds a Comprehensive Center on Assessments, which provides TA to States on assessment issues related to all children, including children with disabilities; and the U.S. Department of Health and Human Services supports the Center for Social and Emotional Foundations for Early Learning.

Communication, collaboration, and coordination, however, are difficult to initiate and sustain without logistical (e.g., arranging meetings, coordinating schedules) and structural supports (e.g., documenting decisions, developing agendas).

OSEP funded a Federal Resource Center for Special Education (FRC) in 2003 as a way to facilitate communication, collaboration, and coordination among OSEP-funded Regional Resource Centers (RRCs). The FRC worked closely with the six RRCs to help them coordinate their TA to States. In addition to the coordination among RRCs, the FRC coordinated, to a limited extent, the exchange of information between the RRCs and other OSEP and Department-funded TA&D centers. (For further information on the work of the FRC, go to http://www.rrfcnetwork.org). In addition to more efficient use of RRC staff time, expertise, and funds, the FRC found that RRC products and service delivery improved when the work of the RRCs was coordinated. OSEP believes that similar positive results can be achieved if support for communication, collaboration, and coordination is extended beyond the six RRCs to include all of the OSEP and other relevant Department and federally-funded technical assistance projects, national professional organizations, and stakeholders such as associations that are members of the IDEA Partnership, which OSEP intends to fund in FY 2008.

Priority: The purpose of this priority is to fund a cooperative agreement to support the establishment and operation of a Technical Assistance Coordination Center (TACC) that will assist OSEP in supporting ongoing communication, collaboration, and coordination among the centers in the OSEP-funded TA&D Network, and between these centers and other relevant federally-funded TA&D centers, national professional organizations, and a broad spectrum of stakeholders.

To be considered for funding under this absolute priority, applicants must meet the application requirements contained in this priority. A project funded under the absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC within four weeks after receipt of the award, and an annual planning meeting held in Washington, DC with the OSEP Project Officer during each subsequent year of the project period.

(2) A three-day Project Directors' Conference in Washington, DC during each year of the project period.

(3) Five two-day trips annually to attend Department briefings, Department-sponsored conferences, and other meetings requested by OSEP; and

(e) A line item in the proposed budget for an annual set-aside of five percent of the grant amount to support emerging needs that are consistent with the proposed project's activities, as those needs are identified in consultation with OSEP.

Note: With approval from the OSEP Project Officer, the TACC must reallocate any remaining funds from this annual set-aside no later than the end of the third quarter of each budget period.

Project Activities. To meet the requirements of this priority, the TACC, at a minimum, must conduct the following activities.

Logistical Support and Coordination Activities.

(a) Facilitate ongoing communication, collaboration, and coordination among the centers in the OSEP TA&D Network, and between those centers and other Department-funded TA&D centers, including the Comprehensive Centers, Equity Assistance Centers, and Regional Educational Laboratories; relevant TA centers funded by the U.S. Department of Health and Human Services; national professional organizations, and other stakeholders, as appropriate. The TACC, at a minimum, must—

(1) Provide logistical support to establish and maintain topical workgroups comprised of OSEP TA&D Network center staff, including information specialists and other TA&D staff, as appropriate, to share information and develop coordinated TA strategies and products on issues, priorities, and strategic initiatives identified by OSEP.

(2) Establish and maintain listservs and other electronic mechanisms for communication, collaboration, and coordination.

(3) Maintain OSEP's Proposed Product Advisory Board (PPAB), which reviews information on products proposed by the OSEP TA&D Network centers to ensure non-duplication of products across TA&D centers. Information about PPAB is available at: http://www.nichcy.org/ppab/index.htm. The TACC, at a minimum, must ensure that this independent review panel conducts a systematic review, at least twice annually and more frequently if needed, of products proposed by the TA&D Network centers and offer recommendations to OSEP regarding whether the proposed products are duplicative.

(4) Maintain and expand, as appropriate, the communities of practice Web site (http://www.tacommunities.org) to support discussions among centers in the OSEP TA&D Network and between these centers and other federally-funded TA&D centers on specific topical areas such as those currently found at http://www.rrfcnetwork.org/content/view/21/49/. The TACC must, at a minimum, maintain the facilitator section of the Web site, organize and host facilitator community meetings, provide training and support to current and new facilitators, and develop communications and outreach materials about the communities of practice that are listed at http://www.tacommunities.org/.

(5) Develop, maintain, update, and integrate, when appropriate, searchable databases of OSEP's (i) discretionary grants, (ii) TA&D Network centers' proposed and current products and services, and (iii) events. This work must include, at a minimum, the following:

(i) Expanding, modifying, maintaining, and integrating, as appropriate, the existing databases of OSEP-funded discretionary grants and their products to assist in coordinating TA&D activities within and across all Part D programs. These databases include the OSEP Discretionary Projects Databases, which must be in compliance with the 2002 E-Government Act and the 2002 Federal Information Security Management Act requirements. Information about these databases is available at: http://www.nichcy.org/directories/sepm/default.asp and http://www.nichcy.org/search.htm#tad.

(ii) Expanding the TA&D Matrix, which is a searchable database that provides current information on Department-funded TA services to a range of stakeholders, to include current information on federally-funded early intervention and early childhood education TA services. This matrix must be integrated with the databases mentioned in paragraph (i). Information about the TA&D Matrix is available at: http://matrix.rrfcnetwork.org.

(6) Maintain and update, at least twice annually, the TA&D Placemat, which is a tool that includes the contact information for all Department-funded TA&D centers. The current TA&D Placemat is available at: http://www.rrfcnetwork.org/content/view/137/192/.

(7) Maintain a Web portal that includes—(i) a work area for the OSEP TA&D Network centers to develop and share resources and products and that links to the Web sites operated by centers in the OSEP TA&D Network; and (ii) an events calendar that includes information on national and regional events hosted by the OSEP TA&D Network centers and OSEP.

(8) Provide an orientation for new OSEP TA&D Network centers and ongoing support for existing OSEP TA&D Network centers on topics such as: (i) PPAB product submission guidelines; (ii) TA&D Matrix data input and maintenance; (iii) Events calendar input and maintenance; (iv) Communities of practice participation; (v) Web site protocols; (vi) Annual performance report (APR) schedules and updates; and (vii) Government Performance and Results Act performance measures.

(b) Facilitate ongoing communication, collaboration, and coordination among the OSEP TA&D Network regional centers, such as the RRCs and the Postsecondary Education Programs Network Regional Centers. The TACC, at a minimum, must (i) develop and maintain an area of the Web portal for use by these regional TA&D centers, (ii) coordinate monthly phone calls among the regional TA&D centers, and (iii) establish and maintain topical workgroups comprised of staff across the regional TA&D centers to identify and develop TA tools and resources.

(c) Support OSEP in sharing information with the OSEP TA&D Network, States, national professional organizations, and other relevant stakeholders on national priorities, issues, and initiatives. The TACC, at a minimum, must—

(i) Provide logistical support for annual conferences hosted by OSEP (e.g., Leadership Conference, TA&D Conference, Joint Leveraging Resources Conference, and Summer Monitoring Institutes) as well as any national meetings, public meetings, and hearings associated with the reauthorization of IDEA.

(ii) Maintain and update, as appropriate, OSEP's existing IDEA Web site (located at http://idea.ed.gov), which contains searchable versions of the IDEA statute and regulations and resources to support the implementation of the statute and regulations. The Web portal referenced in paragraph (a)(7) of the Logistical Support and Coordination Activities section must link to the IDEA Web site.

(iii) Maintain and update, as appropriate, the State Performance Plans (SPPs) and APRs Planning Calendar, which contains information to assist States with the preparation and timely completion of their SPPs and APRs. The Web portal referenced in paragraph (a)(7) of the Logistical Support and Coordination Activities section must include the SPP and APR Planning Calendar. Information about the SPP and APR Planning Calendar is available at: http://www.rrfcnetwork.org/content/view/458/414/.

(iv) Develop a summary report for all SPP and APR performance and compliance indicators using data compiled by centers within the OSEP TA&D Network that includes information about States' progress in meeting targets for IDEA Part B and Part C indicators, as well as any revisions made to States' monitoring and data systems, measurement systems, or improvement strategies. OSEP staff and the OSEP TA&D Network centers will use this information to plan and coordinate their TA efforts. The TACC must participate in OSEP-requested teleconferences to discuss the findings of the summary report.

(d) Prepare and disseminate reports, documents, and other materials on OSEP-sponsored conference proceedings, Federal initiatives and policies, evidence-based TA practices, and related topics, as requested by OSEP, for specific audiences, including the OSEP TA&D Network centers, other federally-funded TA&D centers, SEAs, LEAs, and Part C lead agencies. In consultation with the OSEP Project Officer, make selected reports, documents, and other materials available in both English and Spanish, when appropriate.

(e) Ensure that any Web site established or maintained by the TACC under this priority meets a government or an industry-recognized standard for accessibility.

Leadership and Collaboration Activities.

(a) Establish and maintain an advisory committee to review the activities and outcomes of the TACC and provide programmatic support and advice throughout the project period. At a minimum, the advisory committee must meet on an annual basis in Washington, DC, and consist of OSEP and OESE TA providers, SEA personnel, and families of children with disabilities. The TACC must submit the names of proposed members of the advisory committee to OSEP for approval within eight weeks after receipt of the award.

(b) Communicate and collaborate, on an ongoing basis, with OSEP-funded projects outside of the TA&D Network, including Parent Training and Information Centers, personnel preparation projects, State Personnel Development Grant projects, and State TA Deaf-Blind projects to support the ongoing exchange of information and resources.

(c) Prior to developing any new product, whether paper or electronic, submit to the OSEP Project Officer, for approval, a proposal describing the content and purpose of the product.

(d) Collaborate with the National Dissemination Center for Individuals with Disabilities, which OSEP intends to fund in FY 2008, to develop an efficient and high-quality dissemination strategy that reaches the broad audiences to be targeted by the project. The TACC must report to the OSEP Project Officer the outcomes of these coordination efforts.

(e) Conduct a summative evaluation of the TACC in collaboration with the OSEP-funded Center to Improve Project Performance (CIPP) as described in the following paragraphs. This summative evaluation must examine the outcomes or impact of the TACC's activities in order to assess the effectiveness of those activities.

Note: The major tasks of CIPP would be to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP and with the approval of the OSEP Project Officer, the TACC must—

(1) Hire or designate, with the approval of the OSEP Project Officer, a project liaison staff person with sufficient dedicated time, experience in evaluation, and knowledge of the TACC to work with CIPP on the following tasks: (i) Planning for the TACC's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of TACC activities, (iv) collecting summative data, and (v) writing reports of summative evaluation findings;

(2) Cooperate with CIPP staff in order to accomplish the tasks described in paragraph (1) of this section; and

(3) Dedicate $60,000 of the annual budget request for this project to cover the costs of carrying out the tasks described in paragraphs (1) and (2) of this section, implementing the TACC's formative evaluation, and traveling to Washington, DC in the second year of the project period for the TACC's review for continued funding.

(f) Maintain ongoing communication with the OSEP Project Officer through monthly phone conversations and e-mail communication.

Fourth and Fifth Years of the Project: In deciding whether to continue funding the TACC for the fourth and fifth years, the Secretary will consider the requirements of 34 CFR 75.253(a), and in addition—

(a) The recommendation of a review team consisting of experts selected by the Secretary. This review will be conducted during a one-day intensive meeting in Washington, DC that will be held during the last half of the second year of the project period;

(b) The timeliness and effectiveness with which all requirements of the negotiated cooperative agreement have been or are being met by the TACC; and

(c) The quality, relevance, and usefulness of the TACC's activities and products and the degree to which the TACC's activities and products have contributed to changed practice and improved communication, collaboration, and coordination among OSEP TA&D Network centers.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative Agreement.

Estimated Available Funds: $1,800,000.

Estimated Average Size of Awards: $1,800,000.

Maximum Awards: We will reject any application that proposes a budget exceeding $1,800,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address To Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also, http://www.ed.gov/pubs/edpubs.html or at its e-mail address, edpubs@inet.ed.gov.

If you request an application package from ED Pubs, be sure to identify this program or competition as follows: CFDA Number 84.326Z.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger, or no smaller than 10 pitch (characters per inch).

The page limit does not apply to Part I, the cover sheet; Part II, the budget section, including the narrative budget justification; Part IV, the assurances and certifications; or the one-page abstract, the resumes, the bibliography, the references, or the letters of support. The page limit, however, does apply to the application narrative in Part III.

We will reject your application if you exceed the page limit or if you use other standards and exceed the equivalent of the page limit.

3. Submission Dates and Times:

Applications Available: June 5, 2008.

Deadline for Transmittal of Applications: July 7, 2008.

Applications for grants under this competition may be submitted electronically using the Grants.gov Apply site (Grants.gov), or in paper format by mail or hand delivery. For information (including dates and times) about how to submit your application electronically, or in paper format by mail or hand delivery, please refer to section IV.6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 3, 2008.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this program may be submitted electronically or in paper format by mail or hand delivery.

a. Electronic Submission of Applications. To comply with the President's Management Agenda, we are participating as a partner in the Governmentwide Grants.gov Apply site. The Technical Assistance Coordination Center competition, CFDA Number 84.326Z, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Technical Assistance Coordination Center competition at http://www.Grants.gov. You must search for the downloadable application package for this competition by the CFDA number. Do not include the CFDA number's alpha suffix in your search (e.g., search for 84.326, not 84.326Z).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:

U.S. Department of Education, Application Control Center, Attention: (CFDA Number 84.326Z), 400 Maryland Avenue, SW., Washington, DC 20202-4260.

or

By mail through a commercial carrier:

U.S. Department of Education, Application Control Center, Stop 4260, Attention: (CFDA Number 84.326Z), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326Z), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination To Improve Services and Results for Children With Disabilities program. These measures focus on the extent to which projects provide high quality products and services, the relevance of project products and services to educational and early intervention policy and practice, and the use of products and services to improve educational and early intervention policy and practice.

Grantees will be required to provide information related to these measures in annual reports to the Department.

Grantees also will be required to report information on their project's performance in annual reports to the Department (34 CFR 75.590).

VII. Agency Contact

For Further Information Contact: Rex Shipp or Debra Price-Ellingstad, U.S. Department of Education, 400 Maryland Avenue, SW., Room 4178 and 4097, respectively, Potomac Center Plaza (PCP), Washington, DC 20202-2550. Telephone: (202) 245-7523 and 245-7481, respectively.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 30, 2008.
Tracy R. Justesen,
Assistant Secretary for Special Education and Rehabilitative Services.

[FR Doc. E8-12634 Filed 6-4-08; 8:45 am]

BILLING CODE 4000-01-P